DEPARTMENT OF DEFENSE

Office of the Secretary

[Docket ID: DoD-2022-OS-0026]

Proposed Collection; Comment Request

AGENCY: Office of the Under Secretary of Defense for Personnel and Readiness (USD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 25, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION:

Title; Associated Form; and OMB Number: Job ChalleNGe Participant Focus Groups; OMB Control Number 0704-JCFG.

Needs and Uses: 32 U.S. Code 509, “National Guard Youth Challenge Program of Opportunities for Civilian Youth” seeks to “improve life skills and employment potential of participants by providing military-based training and supervised work experience, together with the core program components of assisting participants, to receive a high school diploma or its equivalent, leadership development, etc.” Job ChalleNGe is an extension of Youth ChalleNGe and provides technical and career training to graduates of Youth ChalleNGe.

This collection is part of a study examining the implementation of the Job ChalleNGe program across its six operating sites. This program focuses on underserved populations and communities and brings them into alignment with Executive Order (E.O.) 13985, which directs the Federal Government to work to advance equity, with a focus on historically underserved communities. The E.O. also directs resources to be allocated to advance fairness and opportunity. The results of this collection will help inform site operations and continuous program improvement. This information is being collected to better understand program participants' experiences and perceptions. This information will be used to help inform site operations, program policy decisions, and drive continuous program improvement.

Affected Public: Individuals or households.

Annual Burden Hours: 75 hours.

Number of Respondents: 60.

Responses per Respondent: 1.

Annual Responses: 60.

Average Burden per Response: 75 minutes.

Frequency: On occasion.

Dated: February 18, 2022.
Aaron T. Siegel,
Alternate OSD Federal Register Liaison Officer, Department of Defense.

[FR Doc. 2022-03935 Filed 2-23-22; 8:45 am]

BILLING CODE 5001-06-P